AGENCY FOR INTERNATIONAL DEVELOPMENT

Notice of Meeting

Pursuant to the Federal Advisory Committee Act, notice is hereby given of a meeting of the Advisory Committee on Voluntary Foreign Aid (ACVFA).

Date: Wednesday, October 25, 2006 (9 a.m. to 3 p.m.).

Location: J.W. Marriott Hotel Ballroom, 1331 Pennsylvania Avenue, NW., Washington, DC 20004.

Please note that this is the anticipated agenda and is subject to change.

Transformational Diplomacy and U.S. Foreign Assistance: USAID's Acting Deputy Administrator James Kunder and Dirk Dijkerman, Chief Operating Officer for the Office of the Director of U.S. Foreign Assistance in the U.S. Department of State have been invited to present updates on the foreign assistance reforms.

Humanitarian Relief and Reconstruction After Natural Disasters:Mark Ward, Senior Deputy Assistant Administrator for USAID's Bureau for Asia and the Near East, and William Garvelink, Senior Deputy Assistant Administrator for USAID's Bureau for Democracy, Conflict and Humanitarian Assistance, have been invited to give a presentation on lessons learned from humanitarian relief and reconstruction projects. Particular attention will be paid to the current efforts underway in Northern Pakistan as a result of the October 8, 2005 earthquake and in Indonesia and Sri Lanka as a result of the December 26, 2004 tsunami. Following the presentation, a panel of USAID, PVO and private sector experts will discuss the role of private-public partnerships and how these collaborations may be applied to other regions, particularly after natural disasters.

President's Malaria Initiative: Rear Admiral Tim Ziemer, the President's Malaria Initiative coordinator, has been invited to provide an overview of the initiative including the progress made to date in the target countries and the multi-faceted approach to the prevention and treatment of malaria.

The meeting is free and open to the public. Persons wishing to attend the meeting can register online at http://www.usaid.gov/about_usaid/acvfa or contact Kristin Holland at kristin@websterconsulting.com or 202-237-0090 extension 10 or Jocelyn Rowe at jrowe@usaid.gov or 202-712-4002.

Dated: October 2, 2006.
Jocelyn M. Rowe,
Executive Director, Advisory Committee on Voluntary Foreign Aid (ACVFA), U.S. Agency for International Development.

[FR Doc. E6-16629 Filed 10-6-06; 8:45 am]

BILLING CODE 6116-01-P